FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank(s) indicated or the offices of the Board of Governors, Ann E. Misback, Secretary of the Board, 20th Street and Constitution Avenue NW, Washington, DC 20551-0001, not later than September 16, 2020.

A. Federal Reserve Bank of St. Louis (David L. Hubbard, Senior Manager) P.O. Box 442, St. Louis, Missouri 63166-2034. Comments can also be sent electronically to Comments.applications@stls.frb.org:

1. Walkenbach Investments, LP (WILP); Walkenbach Management Company, LLC (WMC); the William Walkenbach Revocable Living Trust; the Claudia Walkenbach Revocable Living Trust; the Brad W. Walkenbach Revocable Living Trust; two minor trusts; the Corey G. Walkenbach Revocable Trust; William Walkenbach, as trustee of the William Walkenbach Revocable Living Trust, limited partner of WILP, and managing member of WMC; Claudia Walkenbach, as trustee of the Claudia Walkenbach Revocable Living Trust, limited partner of WILP, and managing member of WMC; Brad. W. Walkenbach, as trustee of the Brad W. Walkenbach Revocable Living Trust and two minor trusts, limited partner of WILP, and managing member of WMC; and Corey G. Walkenbach, as trustee of the Corey G. Walkenbach Revocable Trust, limited partner of WILP, and managing member of WMC, all of Hermann, Missouri; to acquire voting shares of Rhineland Bancshares, Inc., and thereby indirectly acquire voting shares of Peoples Savings Bank of Rhineland, both of Rhineland, Missouri.

Board of Governors of the Federal Reserve System, August 27, 2020.
Yao-Chin Chao,
Assistant Secretary of the Board.

[FR Doc. 2020-19301 Filed 8-31-20; 8:45 am]

BILLING CODE 6210-01-P